DEPARTMENT OF COMMERCE

National Oceanic and Atmospheric Administration

50 CFR Part 622

[I.D. 043001D]

South Atlantic Fishery Management Council; Public Meetings

AGENCY: National Marine Fisheries Service (NMFS), National Oceanic and Atmospheric Administration, Commerce.

ACTION: Notice of public hearings.

SUMMARY: The South Atlantic Fishery Management Council (Council) will hold seven public hearings in May and June 2001 to gather public input regarding proposed management measures for its draft Amendment 5 to the Fishery Management Plan for the Shrimp Fishery of the South Atlantic Region (FMP).

DATES: The public hearings will be held in May and June 2001. Written comments must be received in the Council office by May 29, 2001. See SUPPLEMENTARY INFORMATION for specific dates and times of the public hearings.

ADDRESSES: Written comments should be sent to Bob Mahood, Executive Director, South Atlantic Fishery Management Council, One Southpark Circle, Suite 306, Charleston, SC 29407-4699, or via email to safmc@noaa.gov. Copies of the Public Hearing Document are available from Kim Iverson, South Atlantic Fishery Management Council, One Southpark Circle, Suite 306, Charleston, SC 29407-4699; telephone: 843-571-4366.

FOR FURTHER INFORMATION CONTACT: Kim Iverson, South Atlantic Fishery Management Council, One Southpark Circle, Suite 306, Charleston, SC 29407-4699; telephone: 843-571-4366; fax: 843-769-4520; email address: kim.iverson@noaa.gov.

SUPPLEMENTARY INF0RMATION: The South Atlantic Fishery Management Council (Council) will hold seven public hearings in May and June 2001 to gather public input regarding proposed management measures for its draft Amendment 5 to the Fishery Management Plan for the Shrimp Fishery of the South Atlantic Region (FMP). At the request of the rock shrimp industry, the Council is considering the following measures for its proposed Amendment 5: The development of a limited entry program to remove speculative interest in the fishery and to ensure the economic viability of the rock shrimp industry; shrimp trawl mesh size restrictions to reduce the harvest of small rock shrimp; a requirement for operator permits and vessel monitoring systems to ensure better compliance with the FMP’s management measures; and designation of specific geographic areas within which these management measures would apply.

Meeting Dates and Locations

The dates and locations for the scheduled public hearings are presented below. All hearings are scheduled to begin at 6 p.m.

May 3, 2001- NC Department of Environment & Natural Resources, 127 Cardinal Drive, Wilmington, NC 28405; Telephone: 910-395-3900

May 7, 2001- Radisson Beach Resort, 2600 N. A1A, Fort Pierce, FL 34949; Telephone: 561-465-5544

May 8, 2001- Florida Fish & Wildlife Conservation Commission, Florida Marine Research Institute 100 Eighth Avenue, SE, St. Petersburg, FL 53701-5095; Telephone: 727-896-8626

May 9, 2001- Lafayette Plaza Hotel, 301 Government Street, Mobile, AL 36602; Telephone: 334-694-0101

May 15, 2001- Town & Country Inn, 2008 Savannah Highway, Charleston, SC 29407; Telephone: 843-571-1000

May 24, 2001- University of Georgia, Marine Extension Service, 715 Bay Street, Brunswick, GA 31520; Telephone: 912-264-7268

May 29, 2001- Radisson Hampton, 700 Settlers Landing Road, Hampton, VA 23669, Telephone: 757/727-9700

June 19, 2001- Radisson Ponce de Leon, 4000 US Highway 1, St. Augustine, FL 32095; Phone: 904-824-2821

Special Accommodations

These hearings are physically accessible to people with disabilities. Requests for sign language interpretation or other auxiliary aids should be directed to the Council office (see ADDRESSES) at least five days prior to the hearing date.

Dated: May 1, 2001.
Bruce C. Morehead,
Acting Director, Office of Sustainable Fisheries, National Marine Fisheries Service.

[FR Doc. 01-11273 Filed 5-1-01; 2:51 pm]

BILLING CODE 3510-22-S